DEPARTMENT OF TRANSPORTATION

Surface Transportation Board

[STB Finance Docket No. 34162]

Delaware-Lackawanna Railroad Co., Inc.—Change in Operators Exemption—Lackawanna County Railroad Authority

Delaware-Lackawanna Railroad Co., Inc. (D-L), a Class III rail carrier,¹ has filed a verified notice of exemption under 49 CFR 1150.41 to operate 1.5 miles of rail line to be acquired by Lackawanna County Railroad Authority (LCRA). The line, known as the Minooka Industrial Track, has been operated by Luzerne and Susquehanna Railway Company (L&S), and extends from Little Virginia Junction to the Davis Street Crossing.

¹ According to D-L, it presently operates a 58-mile line of railroad between Fell Township and Mount Pocono, PA; a 17-mile line of railroad between Mount Pocono and Analomink, PA; the Diamond Branch of the former Delaware, Lackawanna & Western Railroad (DL&W) extending 0.85 miles from MP 144.75 to MP 145.6 in Scranton, Lackawanna County, PA; the Laurel Line of the former DL&W extending 4.11 miles from LC 6253 MP 0.7 to MP 4.81 at Montage Road in the Borough of Moosic, Lackawanna County, PA; and 10 miles of rail line between MP 2.0, approximately old MP 74.4 (Slate) and MP 12.2, approximately old MP 84.6 (Gravel) in Monroe and Northampton Counties, PA.

This transaction is related to a simultaneously filed verified notice of exemption in STB Finance Docket No. 34161, Lackawanna County Railroad Authority—Acquisition Exemption—Scranton Lackawanna Industrial Building Company, wherein LCRA seeks to acquire the involved line.

The parties reported that they intended to consummate the transaction on or about January 10, 2002.²

² D-L states that, upon consummation, L&S, the current operator of the line, will cease all operations on the line and that shippers on the line have been notified of the change in operator.

If the notice contains false or misleading information, the exemption is void ab initio. Petitions to revoke the exemption under 49 U.S.C. 10502(d) may be filed at any time. The filing of a petition to revoke does not automatically stay the transaction.

An original and 10 copies of all pleadings, referring to STB Finance Docket No. 34162, must be filed with the Surface Transportation Board, Office of the Secretary, Case Control Unit, 1925 K Street, NW., Washington, DC 20423-0001. In addition, a copy of each pleading must be served on Keith G. O'Brien, REA, CROSS & AUCHINCLOSS, 1707 L Street, NW., Suite 570, Washington, DC 20036.

Board decisions and notices are available on our Web site at www.stb.dot.gov.

Decided: January 22, 2002.
By the Board, David M. Konschnik, Director, Office of Proceedings.
Vernon A. Williams,
Secretary.

[FR Doc. 02-2038 Filed 1-28-02; 8:45 am]

BILLING CODE 4915-00-P